DEPARTMENT OF THE INTERIOR

Bureau of Land Management

[OR110-5880-PB; HAG02-0128]

Medford District Resource Advisory Committee; Notice of Meeting

AGENCY: Medford District Office, Bureau of Land Management, Interior.

ACTION: Notice of meeting.

SUMMARY: The Medford District Resource Advisory Committee will meet in Medford. Agenda topics include review of last meeting minutes, role of alternates, presentations on proposed fiscal year 2002 Title II projects, and discussion regarding proposed projects.

DATES: April 11, 2002. The meeting will begin at 10 a.m. A public comment period will be held from 2 p.m. to 2:30 p.m. The meeting is expected to adjourn at 4 p.m.

ADDRESSES: The meeting will be held at the Medford District Office, located at 3040 Biddle Road, Medford, Oregon.

FOR FURTHER INFORMATION CONTACT: Karen Gillespie, Medford District Office (541-618-2424).

Dated: February 22, 2002.
Ron Wenker,
District Manager.

[FR Doc. 02-6779 Filed 3-20-02; 8:45 am]

BILLING CODE 4310-33-P